DEPARTMENT OF THE TREASURY

Alcohol and Tobacco Tax and Trade Bureau

[Docket No. TTB-2015-0001]

Proposed Information Collections; Comment Request (No. 51)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before May 11, 2015.

ADDRESSES: As described below, you may send comments on the information collections listed in this document using the “Regulations.gov” online comment form for this document, or you may send written comments via U.S. mail or hand delivery. TTB no longer accepts public comments via email or fax.

• http://www.regulations.gov: Use the comment form for this document posted within Docket No. TTB-2015-0001 on “Regulations.gov,” the Federal e-rulemaking portal, to submit comments via the Internet;

• U.S. Mail: Michael Hoover, Regulations and Rulings Division, Alcohol and Tobacco Tax and Trade Bureau, 1310 G Street NW., Box 12, Washington, DC 20005.

• Hand Delivery/Courier in Lieu of Mail: Michael Hoover, Alcohol and Tobacco Tax and Trade Bureau, 1310 G Street NW., Suite 200-E, Washington, DC 20005.

Please submit separate comments for each specific information collection listed in this document. You must reference the information collection's title, form or recordkeeping requirement number, and OMB number (if any) in your comment.

You may view copies of this document, the information collections listed in it and any associated instructions, and all comments received in response to this document within Docket No. TTB-2015-0001 at http://www.regulations.gov. A link to that docket is posted on the TTB Web site at http://www.ttb.gov/forms/comment-on-form.shtml. You may also obtain paper copies of this document, the information collections described in it and any associated instructions, and any comments received in response to this document by contacting Michael Hoover at the addresses or telephone number shown below.

FOR FURTHER INFORMATION CONTACT: Michael Hoover, Alcohol and Tobacco Tax and Trade Bureau, 1310 G Street NW., Box 12, Washington, DC 20005; telephone 202-453-1039, ext. 135; or email informationcollections@ttb.gov (please do not submit comments on this notice to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following forms, recordkeeping requirements, or questionnaires:

Title: Personnel Questionnaire—Alcohol and Tobacco Products.

OMB Number: 1513-0002.

TTB Form Number: TTB F 5000.9.

Abstract: The information that TTB requests on TTB F 5000.9, Personnel Questionnaire—Alcohol and Tobacco Products, is used along with other information TTB collects on its permit application forms to determine whether or not an applicant for an alcohol or tobacco permit meets the minimum qualifications for such permits under Federal law. TTB F 5000.9 asks for information regarding the applicant and his or her residence, the applicant's business background, the sources of funds for the proposed business, and the applicant's criminal record, among other things. TTB may deny permits to unqualified applicants.

Current Actions: TTB is submitting this collection as a revision. TTB is removing from the form a duplicative question regarding previous names used by the applicant. TTB also is updating the number of respondents and the total annual burden hours to reflect an increase in the number of respondents.

Type of Review: Revision of a currently approved collection.

Affected Public: Businesses or other for-profits.

Estimated Number of Respondents: 34,850.

Estimated Total Annual Burden Hours: 64,334.

Title: Claim for Drawback of Tax on Tobacco Products, Cigarette Papers, and Cigarette Tubes.

OMB Control Number: 1513-0026.

TTB Form Numbers: TTB F 5620.7.

Abstract: Respondents use TTB F 5620.7 to document the export of, and to claim drawback of the Federal excise tax paid on, tobacco products, cigarette papers, and cigarette tubes exported to a foreign county, Puerto Rico, or the Virgin Islands after taxpayment.

Current Actions: TTB is submitting this collection as a revision. The form remains unchanged. However, we are updating the number of respondents and the total annual burden hours to reflect a decrease in the number of respondents.

Type of Review: Revision of a currently approved collection.

Affected Public: Businesses or other for-profits.

Estimated Number of Respondents: 50.

Estimated Total Annual Burden Hours: 25.

Title: Excise Tax Return—Alcohol and Tobacco Products (Puerto Rico).

OMB Number: 1513-0090.

TTB Form Number: TTB F 5000.25.

Abstract: Businesses in Puerto Rico report their Federal excise tax liability on distilled spirits, wine, beer, tobacco products, and cigarette papers and tubes on TTB F 5000.25. TTB uses this form to identify the taxpayer and to determine the amount and type of taxes due and paid.

Current Actions: TTB is submitting this collection as a revision. TTB is revising the form to remove an obsolete reference to large cigar statistical classes. TTB also is updating the number of respondents and the total annual burden hours to reflect a decrease in the number of respondents.

Type of Review: Revision of a currently approved collection.

Affected Public: Businesses or other for-profits.

Estimated Number of Respondents: 22.

Estimated Total Annual Burden Hours: 198.

Title: Alcohol Special (Occupational) Tax Registration and Return; Alcohol Dealer Registration (For Use On and After July 1, 2008); and Special Tax Registration and Return—Tobacco.

OMB Number: 1513-0112.

TTB Form Number: TTB F 5630.5a, 5630.5d, and 5630.5t.

Abstract: Chapter 52 of the Internal Revenue Code (26 U.S.C.) requires tobacco products manufacturers, cigarette papers and tubes manufacturers, and tobacco product export warehouse proprietors to register for and pay special (occupational) tax (SOT). TTB F 5630.5t is used for registration and tax payment for such businesses. With regard to alcohol, in 2005, section 11125 of Public Law 109-59 permanently repealed, effective July 1, 2008, the SOT on all alcohol dealers required by Chapter 51 of the Internal Revenue Code (26 U.S.C.). However, the registration requirement for such entities remains in force. TTB F 5630.5a is a tax return/registration for persons already in business who failed to register or pay SOT on or before June 30, 2008, and TTB F 5630.5d is used to register alcohol dealers on and after July 1, 2008.

Current Actions: TTB is submitting this information collection as a revision. The three forms remain unchanged. However, we are updating the number of respondents and the total annual burden hours to reflect a decrease in the number of respondents.

Type of Review: Revision of a currently approved collection.

Affected Public: Businesses or other for-profits, not-for-profits, and individuals or households.

Estimated Number of Respondents: 8,350.

Estimated Total Annual Burden Hours: 3,480.

Dated: March 9, 2015.
Amy R. Greenberg,
Director, Regulations and Rulings Division.

[FR Doc. 2015-05657 Filed 3-11-15; 8:45 am]

BILLING CODE 4810-31-P